INTERNATIONAL TRADE COMMISSION

[Investigation No. 337-TA-898 [CORRECTED]]

Certain Marine Sonar Imaging Devices, Products Containing the Same, and Components Thereof; Notice of Commission Determination Not to Review an Initial Determination Terminating the Investigation Based on a Settlement Agreement; Termination of Investigation (Correction)

AGENCY: U.S. International Trade Commission.

ACTION: Correction of notice.

SUMMARY: Correction is made to the investigation number for notice 79 FR 22835 which was published on Thursday, April 24, 2014. The investigation number should be corrected from 337-TA-853 to 337-TA-898.

By order of the Commission.
Issued: April 29, 2014.
Lisa R. Barton,
Secretary to the Commission.

[FR Doc. 2014-10066 Filed 5-1-14; 8:45 am]

BILLING CODE 7020-02-P